DEPARTMENT OF ENERGY

Federal Energy Regulatory Commission

[Project No. 2105-089, California]

Pacific Gas and Electric Company; Notice of Intention To Hold Public Meetings for Discussion of the Draft Environmental Impact Statement for the Upper North Fork Feather River Hydropower Project

September 21, 2004.

On September 10, 2004, the Commission staff delivered the Upper North Fork Feather River Project Draft Environmental Impact Statement (DEIS) to the Environmental Protection Agency and mailed it to resource and land management agencies, interested organizations, and individuals.

The DEIS was noticed in the Federal Register on September 17, 2004 (69 FR 56054) and comments are due November 1, 2004. The DEIS evaluates the environmental consequences of the issuance of a new license for the continued operation and maintenance of the Upper North Fork Feather River Project, located in Plumas County, California. The project occupies 1,500 acres of land administered by the Forest Supervisors of the Lassen and Plumas National Forests. It also evaluates the environmental effects of implementing the licensee's proposals, agency and NGO recommendations, staff's recommendations, and the no-action alternative.

Two public meetings, which will be recorded by an official stenographer, are scheduled as follows.

Date: Tuesday, October 19, 2004.

Time: 6-9 p.m. (p.s.t.).

Place: Veterans Memorial Hall.

Address: 225 Gay Street, Chester, California.

Date: Wednesday, October 20, 2004.

Time: 1-4 p.m. (p.s.t.).

Place: Chico Masonic Family Center, Yorkrite Room.

Address: 1110 West East Avenue, Chico, California.

At these meetings, resource agency personnel and other interested persons will have the opportunity to provide oral and written comments and recommendations regarding the DEIS for the Commission's public record.

For further information, please contact John Mudre at e-mail address john.mudre@ferc.gov, or by telephone at (202) 502-8902.

Magalie R. Salas,
Secretary.

[FR Doc. E4-2393 Filed 9-27-04; 8:45 am]

BILLING CODE 6717-01-P